DEPARTMENT OF LABOR

Mine Safety and Health Administration

DEPARTMENT OF HEALTH AND HUMAN SERVICES

Centers for Disease Control and Prevention

30 CFR Part 72

RIN 1219-AB18

Determination of Concentration of Respirable Coal Mine Dust

AGENCIES: Mine Safety and Health Administration (MSHA), Labor. National Institute for Occupational Safety and Health (NIOSH), Centers for Disease Control and Prevention, Department of Health and Human Services.

ACTION: Proposed rule; notice of public hearings; close of record.

SUMMARY: The Mine Safety and Health Administration (MSHA) and the National Institute for Occupational Safety and Health (NIOSH) will hold public hearings to receive comments on the joint notice of proposed rulemaking published in the Federal Register on July 7, 2000.

The proposal announced that the Secretary of Labor and the Secretary of Health and Human Services (the Secretaries) would find in accordance with sections 101 and 202(f)(2) (30 U.S.C. §§ 811 and 842(f)(2)) of the Federal Mine Safety and Health Act of 1977 (Mine Act) that the average concentration of respirable dust to which each miner in the active workings of a coal mine is exposed can be accurately measured over a single shift (single, full-shift sampling). The Secretaries are proposing to rescind a previous 1972 finding by the Secretary of the Interior and the Secretary of Health, Education and Welfare, on the accuracy of single-shift sampling.

These hearings will be held pursuant to section 101 of the Mine Act.

Please also see the public hearing notice addressing verification of dust control plans (plan verification) published separately by MSHA in today's Federal Register.

DATES: If individuals or organizations wish to make an oral presentation for the record at the hearing, please submit your request at least five days prior to the hearing date. However, you do not have to make a written request to speak. Any unalloted time will be made available to persons making same-day requests.

The public hearings will be held on the following dates and locations:

(1) August 7, 2000 from 8:30 a.m.—5:00 p.m. (Day 1)

August 8, 2000 from 8:30 a.m.—12:00 p.m. (Day 2)(if necessary)

Morgantown, West Virginia

(2) August 10, 2000 from 8:30 a.m.—5:00 p.m. (Day 1)

August 11, 2000 from 8:30 a.m.—12:00 p.m. (Day 2) (if necessary)

Prestonsburg, Kentucky

(3) August 16, 2000 from 8:30 a.m.—5:00 p.m. (Day 1)

August 17, 2000 from 8:30 a.m.—12:00 p.m. (Day 2) (if necessary)

Salt Lake City, Utah

To the extent possible, we would like to hear comments on the notices of proposed rulemaking in sequence. At each hearing site during the first part of Day 1 (until approximately 12:00 p.m.) we would like to hear comments on the single, full-shift sampling proposed rule. The second part of Day 1 we would like to hear comments on the plan verification proposal. If a second day of hearings is necessary at a hearing site, we would devote this time to hear comments on the plan verification proposal.

If necessary, the time can be extended each day to give all interested parties an opportunity to present testimony.

The rulemaking record will close on August 24, 2000.

ADDRESSES: You may use mail, facsimile (fax), or electronic mail to send us your requests to make oral presentations at the public hearings. Clearly identify your requests and send them— (1) By mail to Carol J. Jones, Director, Office of Standards, Regulations, and Variances, MSHA, 4015 Wilson Boulevard, Room 631, Arlington, VA 22203;

(2) By fax to MSHA, Office of Standards, Regulations, and Variances, 703-235-5551; or

(3) By electronic mail to comments@msha.gov.

The hearings will be held on the following dates and the following locations:

1. August 7 and 8,* 2000, Holiday Inn, 1400 Saratoga Avenue, Morgantown, West Virginia 26505, 304-599-1680.

2. August 10 and 11,* 2000, Holiday Inn, 1887 N US 23, Prestonsburg, Kentucky 41653, 606-886-0001.

3. August 16 and 17,* 2000, Hilton Salt Lake City Center, 255 S West Temple, Salt Lake City, Utah 84101, 801-328-2000.

*if necessary

FOR FURTHER INFORMATION CONTACT: Carol J. Jones, Director; Office of Standards, Regulations, and Variances, MSHA, 4015 Wilson Boulevard, Arlington, VA 22203-1984; 703-235-1910.

I. Background

On July 7, 2000, the Secretary of Labor and the Secretary of Health and Human Services (the Secretaries) jointly published a notice of proposed rulemaking finding in accordance with sections 101 (30 U.S.C. 811) and 202(f)(2) (30 U.S.C. 842(f)(2)) of the Federal Mine Safety and Health Act of 1977 (Mine Act) that the average concentration of respirable dust to which each miner in the active workings of a coal mine is exposed can be accurately measured over a single shift. The Secretaries are proposing to rescind a 1972 finding by the Secretary of the Interior and the Secretary of Health, Education, and Welfare, on the accuracy of such single-shift sampling.

II. Conduct of Public Hearings

The hearings will be conducted in an informal manner with a panel of MSHA and NIOSH representatives, chaired by Marvin W. Nichols, Jr. Although formal rules of evidence or cross examination will not apply, the presiding official may exercise discretion to ensure the orderly progress of the hearings and may exclude irrelevant or unduly repetitious material and questions.

Each session will begin with an opening statement from MSHA and NIOSH, followed by an opportunity for members of the public to make oral presentations. The hearing panel may ask questions of speakers. At the discretion of the presiding official, the time allocated to speakers for their presentations may be limited. In the interest of conducting productive hearings, MSHA and NIOSH will schedule speakers in a manner that allows all points of view to be heard as effectively as possible. If necessary, the hearing time will be extended into the evening to allow interested parties an opportunity to speak.

Verbatim transcripts of the proceedings will be prepared and made a part of the rulemaking record. MSHA and NIOSH will make available copies of the hearing transcripts for public review.

MSHA and NIOSH will accept additional written comments and other appropriate data for the record from any interested party, including those not presenting oral statements. Written comments and data submitted to MSHA and NIOSH will be included in the rulemaking record.

III. Close of Rulemaking Record

To allow for the submission of post-hearing comments, the rulemaking record will close on August 24, 2000.

Dated: June 30, 2000.
Robert A. Elam,
Deputy Assistant Secretary for Mine Safety and Health.
Dated: June 30, 2000.
Linda Rosentock,
Director, National Institute for Occupational Safety and Health.

[FR Doc. 00-17129 Filed 7-6-00; 8:45 am]

BILLING CODE 4510-43-P